DEPARTMENT OF HOUSING AND URBAN DEVELOPMENT

[Docket No. FR-5831-N-36]

30-Day Notice of Proposed Information Collection: Certification and Funding of State and Local Fair Housing Enforcement Agencies

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: [August 24, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Anna Guido, Reports Management Officer, QDAM, Department of Housing and Urban Development, 451 7th Street SW., Washington, DC 20410; email Colette Pollard at Colette Pollard@hud. or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on May 5, 2015 at 80 FR 25707.

A. Overview of Information Collection

Title of Information Collection: Certification and Funding of State and Local Fair Housing Enforcement Agencies.

OMB Approval Number: 2529-0005.

Type of Request: Extension of currently approved collection.

Form Numbers: None.

Description of the need for the information and proposed use:

A. Request for Substantial Equivalence

For a state or local law to be certified as “substantially equivalent” and therefore be eligible to participate in the Fair Housing Assistance Program (FHAP), the Assistant Secretary for Fair Housing and Equal Opportunity must determine that the state or local law provides substantive rights, procedures, remedies, and the availability of judicial review that are substantially equivalent to those provided in the federal Fair Housing Act (the Act).

State and local fair housing enforcement agencies that are seeking certification in accordance with Section 810(f) of the Act submit a request to the Assistant Secretary for Fair Housing and Equal Opportunity. The request must be supported by the text of the jurisdiction's fair housing law, the law creating and empowering the agency, all laws referenced in the jurisdiction's fair housing law, any regulations and directives issued under the law, and any formal opinions of the State Attorney General or the chief legal officer of the jurisdiction that pertain to the jurisdiction's fair housing law.

B. Information Related to Agency Performance

Once agencies are deemed substantially equivalent and are participating in the FHAP, HUD collects sufficient information to monitor agency performance in accordance with 24 CFR 115.206, which sets forth the performance standards for agencies participating in the FHAP. These standards are meant to ensure that the state or local law, both “on its face” and “in operation,” provides substantive rights, procedures, remedies, and judicial review procedures for alleged discriminatory housing practices that are substantially equivalent to those provided in the Act. In addition, HUD collects sufficient information to monitor agency compliance with 24 CFR 115.307 and 24 CFR 115.308, which set forth requirements for FHAP participation and reporting and record keeping requirements including, but not limited to, the requirement that FHAP agencies use HUD's official complaint data information system, and input complaint processing information into that system in a timely manner.

Respondents (i.e., affected public): State and local government agencies participating in the Fair Housing Assistance Program as well State and local government agencies applying to participate in the FHAP.

Frequency/Burden: The Department estimates that requests for substantial equivalence will have the following reporting burdens:

| Number of respondents | × | Annual responses | × | Hours per response | = | Burden hours
Reporting Burden | 5 |  | 6 |  | 15 |  | 450

The Department estimates that reporting information related to agency performance will have the following reporting burdens:

| Number of respondents | × | Annual responses | × | Hours per response | = | Burden hours
REPORTING BURDEN | 88 |  | 33 |  | 20 |  | 58,080

Total Estimated Burden Hours: 58,530.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: July 16, 2015.
Colette Pollard,
Department Reports Management Officer, Office of the Chief Information Officer.

[FR Doc. 2015-18228 Filed 7-23-15; 8:45 am]

BILLING CODE 4210-67-P